DEPARTMENT OF COMMERCE

National Oceanic and Atmospheric Administration

Fisheries of the Caribbean; Southeast Data, Assessment, and Review (SEDAR); Public Meetings

AGENCY: National Marine Fisheries Service (NMFS), National Oceanic and Atmospheric Administration (NOAA), Commerce.

ACTION: Notice of cancellation for SEDAR Review Workshop for Caribbean blue tang and queen triggerfish.

SUMMARY: The SEDAR assessments of the Caribbean stocks of blue tang and queen triggerfish will no longer have an in-person Review Workshop. See SUPPLEMENTARY INFORMATION.

DATES: The Review Workshop originally scheduled for February 4-7, 2013 has been cancelled. See SUPPLEMENTARY INFORMATION.

SUPPLEMENTARY INFORMATION: The original notice published in the Federal Register on May 7, 2012 (77 FR 26746).

The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR includes three workshops: (1) Data Workshop; (2) Stock Assessment Workshop; and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting panel opinions regarding the strengths and weaknesses of the stock assessment and input data. Participants for SEDAR Workshops are appointed by the Gulf of Mexico, South Atlantic, and Caribbean Fishery Management Councils and the NOAA Fisheries Southeast Regional Office and Southeast Fisheries Science Center. Participants include: data collectors and database managers; stock assessment scientists, biologists, and researchers; constituency representatives including fishermen, environmentalists, and non-governmental organizations (NGOs); international experts; and staff of Councils, Commissions, and state and federal agencies.

February 4-7, 2013; SEDAR 30 Review Workshop—CANCELLED

The in-person Review Workshop, scheduled for 4-7 February 2013 to review the 2012 assessments of blue tang and queen triggerfish, has been cancelled. At the Assessment workshop, held October 16-17, 2012 in Miami, FL, the Assessment Panel decided not to move forward with the blue tang assessment due to data issues and determined that little could be accomplished for queen triggerfish beyond what had been completed to date.

Given the reduced scope of assessment products in need of review, the in-person workshop is being cancelled in favor of a Desk Review. The Desk Review would still utilize Center for Independent Experts (CIE) Reviewers. The Reviewers would be provided the assessment reports of each species, review them according to the Terms of Reference (TOR), and provide an individual independent review report. Those reports would be made available to the analysts, as well as to the Scientific and Statistical Committee (SSC), for their review and discussion before the SSC makes any management recommendations. The timing of the Desk Review would be similar to the timing already in place for the project, with the plan to have the material imparted to the SSC by early March 2013.

All other previously-published information remains unchanged.

Dated: November 8, 2012.
Tracey L. Thompson,
Acting Deputy Director, Office of Sustainable Fisheries, National Marine Fisheries Service.

[FR Doc. 2012-27682 Filed 11-14-12; 8:45 am]

BILLING CODE 3510-22-P